DEPARTMENT OF HEALTH AND HUMAN SERVICES

Centers for Disease Control and Prevention

Notice of Award of a Single-Source Cooperative Agreement To Fund the National AIDS Control Program, Programme National de Lutte contre le VIH/SIDA (PNLS), Democratic Republic of Congo

AGENCY: Centers for Disease Control and Prevention (CDC), Department of Health and Human Services (HHS).

ACTION: Notice.

SUMMARY: The Centers for Disease Control and Prevention (CDC), located within the Department of Health and Human Services (HHS), announces the award of approximately $500,000 for Year 1 of funding to the Programme National de Lutte contre le VIH/SIDA (PNLS). The award will strengthen Strategic Information (SI) activities, laboratory quality assurance services, and surveillance of new infections in Democratic Republic of Congo (DRC). This support will enhance the antiretroviral therapy (ART) cohort monitoring and delivery of HIV/AIDS services for the epidemic control in DRC. Funding amounts for years 2-5 will be set at continuation.

DATES: The period for this award will be September 30, 2022 through September 29, 2027.

FOR FURTHER INFORMATION CONTACT: Kaee Ross, Center for Global Health, Centers for Disease Control and Prevention, U.S. Embassy DRC, 498 Ave Col Lukusa, Kinshasa, Gombe, DRC, Telephone: 800-232-6348, email: knr6@cdc.gov.

SUPPLEMENTARY INFORMATION: The single-source award will improve data collection and analysis to produce a factual basis for evaluation and improvement of the HIV prevention, care, and treatment program in the DRC. The project will build capacity in DRC to have available, reliable data transmitted promptly for decision-making. Furthermore, the project will sustain quality assurance for rapid tests to ensure accuracy of results, and the monitoring of rapid tests used in the field.

The PNLS is a specialized program run by the Ministry of Health (MOH) in the DRC. Created on August 5, 2015 by Ministerial Decision No. 449/MSLS/CAB, the PNLS has been authorized and tasked to lead and coordinate the fight against the HIV/AIDS epidemic to achieve epidemic control. The PNLS is the governmental authority with the normative and regulatory role in the implementation of STI and HIV/AIDS control activities in the Health Zones (HZ). The PNLS has the authority to organize, review, and validate all data relative to HIV-AIDS in country. In addition, PNLS has the mission to control the quality of rapid test results provided by health care workers at facilities and to monitor how rapid tests are working in the field. Accordingly, PNLS has the sole authority and is uniquely qualified to perform the anticipated activities for this award.

Summary of the Award

Recipient: the Programme National de Lutte contre le VIH/SIDA (PNLS).

Purpose of the Award: The purpose of this award is to strengthen SI activities, laboratory quality assurance services, and surveillance of new infections in DRC. Support from this award will enhance ART cohort monitoring and delivery of HIV/AIDS services for control of the epidemic in DRC.

Amount of Award: The approximate year 1 funding amount will be $500,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: February 1,2022.
Terrance Perry,
Chief Grants Management Officer, Centers for Disease Control and Prevention.

[FR Doc. 2022-02411 Filed 2-3-22; 8:45 am]

BILLING CODE 4163-18-P